ENVIRONMENTAL PROTECTION AGENCY

[FRL-6886-3]

Agency Information Collection Activities: Proposed Collection; Comment Request; IAQ Practices in Schools Survey

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): IAQ Practices in Schools Survey, EPA ICR Number 1885.01. Before submitting the ICR to OMB for review and approval, EPA is soliciting comments on specific aspects of the proposed information collection as described below.

DATES: Comments must be submitted on or before December 19, 2000.

ADDRESSES: To obtain a copy of the ICR without charge, contact: Mr. John Guevin, Indoor Environments Division, Office of Radiation and Indoor Air, U.S. Environmental Protection Agency, 1200 Pennsylvania Avenue, NW, (6609J), Washington, D.C. 20460.

FOR FURTHER INFORMATION CONTACT: Mr. John Guevin by phone at (202) 564-9055 or by e-mail at guevin.john@epa.gov.

SUPPLEMENTARY INFORMATION: Affected entities: Entities potentially affected by this action are all public and private schools operating in the United States during the school year immediately preceding the year in which the survey is conducted.

Title: IAQ Practices in Schools Survey (EPA ICR No. 1885.01). This is a new collection.

Abstract: As part of its authorization under Title IV of SARA, 1986, the Indoor Environments Division (IED) of EPA's Office of Radiation and Indoor Air has been working to promote more effective approaches for preventing, identifying, and solving indoor air quality (IAQ) problems in schools and has developed low-cost guidance entitled IAQ Tools for Schools for that purpose.

The IAQ Practices in Schools Survey will allow EPA to gain information regarding the number of schools that have implemented sound IAQ-management practices, such as those activities recommended in its guidance. These data are essential for measuring the effectiveness of EPA's outreach efforts against the Agency's established GPRA goal. EPA is working towards achieving the implementation of sound IAQ practices in 15 percent, or 16,650, of the nation's public and private schools by 2005. The IAQ Practices in Schools Survey is voluntary.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates the annual public reporting and record keeping burden for this collection of information to be 1.3 hours per mail response and 0.8 hours per telephone response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

This survey effort is expected to cost approximately $27.60 per mail response and $16.95 per telephone response. Respondents will incur no capital or start-up costs, and the only operation and maintenance component of the survey will be the cost to photocopy the survey once completed (if desired).

Dated: October 6, 2000.
Mary T. Smith,
Director, Indoor Environments Division.

[FR Doc. 00-27033 Filed 10-19-00; 8:45 am]

BILLING CODE 6560-50-U